DEPARTMENT OF TRANSPORTATION

National Highway Traffic Safety Administration

[U.S. DOT Docket No. NHTSA-2009-0142]

Reports, Forms, and Record Keeping Requirements

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on August 10, 2009 (74 FR 3991-3992).

DATES: Comments must be submitted on or before December 28, 2009.

ADDRESSES: Direct all written comments to the U.S. Department of Transportation Dockets, 1200 New Jersey Ave, SE., W46-474, Washington, DC 20590. Docket No. NHTSA-2009-0142.

FOR FURTHER INFORMATION CONTACT: Scott Roberts, Ph.D., Contracting Officer's Technical Representative, Office of Behavioral Safety Research (NTI-132), National Highway Traffic Safety Administration, 1200 New Jersey Ave, SE., W46-495, Washington, DC, 20590. Dr. Roberts' phone number is 202-366-5594 and his e-mail address is Scott.Roberts@dot.gov.

SUPPLEMENTARY INFORMATION: Title: Evaluation Surveys for Distracted and Unsafe Driving Interventions.

Type of Request: New information collection requirement.

Abstract: The National Highway Traffic Safety Administration (NHTSA) was established by the Highway Safety Act of l970 (23 U.S.C. 101) to carry out a Congressional mandate to reduce the mounting number of deaths, injuries, and economic losses resulting from motor vehicle crashes on the Nation's highways. In support of this mission, NHTSA proposes to conduct a series of telephone and intercept surveys that will examine (a) trends in attitudes, perceptions, and behaviors associated with the use of mobile electronic devices like cell phones while driving, and (b) the effectiveness of high visibility enforcement demonstration programs to increase public awareness of the dangers of, and legislation related to, distracted and unsafe driving behaviors. An essential part of this evaluation effort is to compare baseline and post-intervention measures of attitudes, intervention awareness, and (relevant) self-reported behaviors to determine if the high visibility enforcement activity was associated with changes on those indices. NHTSA proposes to conduct national and community-level surveys during the mid 2010 to mid 2012 time period. In addition, NHTSA proposes a limited number of focus group sessions with members of the general public to test and refine its strategic messaging.

Affected Public: The 20 minute national telephone survey will be administered annually to 6,000 randomly selected members of the general public age 16 and older, including those in landline telephone households as well as those who primarily or exclusive use a cellular phone. One of two 10 minute community-level surveys, either a telephone survey or an intercept survey handed out at Department of Motor Vehicle (DMV) offices, will be administered over three years to a maximum of 3,200 randomly selected drivers age 16 and older. A maximum of 24 focus group sessions, lasting 90 minutes, will be held with nine participants in each session. Participation by all respondents would be voluntary and anonymous.

Estimated Total Annual Burden: 3,175 hours.

Comments are invited on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

A comment to OMB is most effective if OMB receives it within 30 days of publication.

Authority: 44 U.S.C. Section 3506(c)(2)(A).

Jeff Michael,
Associate Administrator, Research and Program Development.

[FR Doc. E9-28329 Filed 11-25-09; 8:45 am]

BILLING CODE 4910-59-P